DEPARTMENT OF AGRICULTURE

Commodity Credit Corporation

Installation and Improvement of Grain Cleaning Equipment

AGENCY: Commodity Credit Corporation, USDA.

ACTION: Notice of public hearing and extension of comment period.

SUMMARY: On November 29, 1999, the Commodity Credit Corporation (CCC) published a Notice (64 FR 66606) soliciting public comment on the merits of whether the CCC should finance, in some manner, the installation or upgrading of grain cleaning systems at wheat export elevators in the United States. This Notice announces that CCC will conduct a public hearing regarding this proposal and extend the time period for public comments.

DATES: Public Hearing: The Foreign Agricultural Service (FAS), United States Department of Agriculture (USDA), will hold a public hearing to solicit comments on a proposal to finance cleaning systems at wheat elevators in the United States. This hearing will take place on January 28, 2000, beginning at 10 a.m. in the Jefferson Auditorium, USDA South Building, 1400 Independence Ave., SW., Washington, DC. Handicap facilities, including sign language, will be available at the hearing. FAS will prepare a transcript of the hearing.

Those who wish to be assured the opportunity to provide a statement at the hearing must register no later than Wednesday, January 26, 2000.

Comment Date Extension: The date for receipt of written comments on the Notice published at 64 FR 66606 is extended to February 4, 2000. Comments must be received on or before that date to be assured of consideration.

FOR FURTHER INFORMATION CONTACT: Please direct written correspondence to: Timothy J. Galvin, Administrator, Foreign Agricultural Service, Room 5071, 1400 Independence Ave., SW., Washington, DC 20250. Telephone, fax or e-mail correspondence may be directed to: Sam Dunlap, Assistant to the Administrator, Foreign Agricultural Service, Phone: (202) 720-1743, Fax: (202) 690-0493, e-mail: dunlaps@fas.usda.gov.

Signed at Washington, DC on January 13, 2000.
Timothy J. Galvin,
Administrator, Foreign Agricultural Service, Vice President, Commodity Credit Corporation.

[FR Doc. 00-1490 Filed 1-20-00; 8:45 am]

BILLING CODE 3410-10-M